DEPARTMENT OF COMMERCE

International Trade Administration

[A-570-831]

Fresh Garlic From the People's Republic of China

AGENCY: Import Administration, International Trade Administration, Department of Commerce.

ACTION: Notice of initiation of new shipper antidumping duty reviews: fresh garlic from the People's Republic of China.

EFFECTIVE DATE: January 6, 2003.

SUMMARY: The Department of Commerce has received requests to conduct four new shipper reviews of the antidumping duty order on fresh garlic from the People's Republic of China. In accordance with section 751(a)(2)(B) of the Tariff Act of 1930, as amended, and 19 CFR 351.214(d), we are initiating three new shipper reviews and not initiating one new shipper review.

FOR FURTHER INFORMATION CONTACT: Jeffrey Frank or Mark Ross at (202) 482-0090 and (202) 482-4794, respectively; Import Administration, International Trade Administration, U.S. Department of Commerce, 14th Street and Constitution Avenue, NW., Washington, DC 20230.

SUPPLEMENTARY INFORMATION:

Background

On November 26, 2002, we received a request for a new shipper review of the antidumping duty order on fresh garlic from the People's Republic of China from Shandong Heze International Trade and Developing Company (“Shandong Heze”). In its request for review, Shandong Heze submitted copies of the invoice and bill of lading associated with the first sales that it made to the United States. However, the dates of sale and entry listed in the submitted documentation indicate that Shandong Heze's first sale to the United States was made more than one year before its November 26, 2002, request for a new shipper review. Thus, Shandong Heze's request was untimely filed pursuant to the deadline established in 19 CFR 351.214(c) and we will not initiate a new shipper review based on that request.

Instead, pursuant to its request in the alternative, we have initiated an administrative antidumping duty review of sales of subject merchandise made by Shandong Heze during the period of review, November 1, 2001 through October 31, 2002. See § 751 of the Tariff Act of 1930, as amended (the Act). See Initiation of Antidumping and Countervailing Duty Administrative Reviews, 67 FR 78772 (December 26, 2002).

On November 21, 2002, we received a request for a new shipper review from Zhengzhou Harmoni Spice Co., Ltd. (“Zhengzhou”). On November 27, 2002, the Department received a request for a new shipper review from Xiangcheng Yisheng Foodstuffs Co., Ltd. (“Xiangcheng”). Also on November 27, 2002, we received a request for a new shipper review from Jining Trans-High Trading Co., Ltd. (“Jining Trans-High”). Zhengzhou identified itself as a Chinese producer and exporter of fresh garlic from the People's Republic of China. Xiangcheng and Jining Trans-High are Chinese exporters of fresh garlic from the People's Republic of China. The garlic exported by Xiangcheng was produced by Henan Yuyu Fruits & Vegetables Products Co., Ltd. (“Henan”). The garlic exported by Jining Trans-High was produced by Jining Yun Feng Agricultural Products Co., Ltd. (“Jining Yun Feng”).

Initiation of Review

Pursuant to 19 CFR 351.214(b)(2)(i), Zhengzhou provided certifications that it had not exported subject merchandise to the United States during the period of investigation. Pursuant to 19 CFR 351.214(b)(2)(ii)(A), Xiangcheng and Jining Trans-High provided certifications that they had not exported subject merchandise to the United States during the period of investigation. Pursuant to 19 CFR 351.214(b)(2)(ii)(B), Henan and Jining Yun Feng, producers of garlic for Xiangcheng and Jining Trans-High, respectively, provided certifications that they had not exported subject merchandise to the United States during the period of investigation.

In accordance with 19 CFR 351.214(b)(2)(iii)(A), each of the three exporters, Zhengzhou, Xiangcheng, and Jining Trans-High, certified that, since the initiation of the original investigation, it has never been affiliated with any exporter or producer who exported the subject merchandise to the United States during the period of investigation, including those not individually examined during the investigation. Also, each of the two producers, Henan and Jining Yun Feng, certified that, since the initiation of the original investigation, it has never been affiliated with any exporter or producer who exported the subject merchandise to the United States during the period of investigation, including those not individually examined during the investigation.

As required by 19 CFR 351.214(b)(2)(iii)(B), each of the three exporters, Zhengzhou, Xiangcheng, and Jining Trans-High, certified that its export activities were not controlled by the central government. Also, each of the two producers, Henan and Jining Yun Feng, certified that its export activities were not controlled by the central government. Thus, the requests from Zhengzhou, Xiangcheng, and Jining Trans-High meet the content requirements set forth under 19 CFR 351.214(b)(2)(i)-(iii).

In addition, the companies submitted documentation establishing the following: (i) The date on which their subject merchandise was first entered, or withdrawn from warehouse, for consumption or the date on which the exporter or producer first shipped the subject merchandise for export to the United States; (ii) the volume of that and subsequent shipments; and (iii) the date of the first sale to an unaffiliated customer in the United States. Thus, the requests for review meet the content requirements set forth under 19 CFR 351.214(b)(2)(iv). Accordingly, pursuant to section 751(a)(2)(B)(ii) of the Act and 19 CFR 351.214(d)(1), we are initiating new shipper reviews for shipments of fresh garlic from the People's Republic of China exported by Zhengzhou, Xiangcheng, and Jining Trans-High. The period of review covers the period November 1, 2001, through October 31, 2002. See 19 CFR 351.214(g). We intend to issue final results of this review no later than 270 days after the day on which these new shipper reviews are initiated. See 19 CFR 351.214(i).

We will instruct the Customs Service to allow, at the option of the importer, the posting of a bond or security in lieu of a cash deposit for each entry of the subject merchandise from the companies named above, until the completion of the review. As Zhengzhou has certified that it both produced and exported the subject merchandise exported to the United States during the relevant period of review, we will apply the bonding option under 19 CFR 351.107(b)(1)(i) only to subject merchandise for which it is both the producer and exporter. For both Jining Trans-High and Xiangcheng, we will apply the bonding option under 19 CFR 351.107(b)(1)(i) only to entries of subject merchandise from these two exporters for which the respective producers under review are the suppliers.

The interested parties must submit applications for disclosure under administrative protective order in accordance with 19 CFR 351.305 and 351.306.

This initiation and notice are in accordance with section 751(a)(2)(B)(ii) of the Act and 19 CFR 351.214 and 351.221(c)(1)(i).

Dated: December 31, 2002.
Susan H. Kuhbach,
Acting Assistant Secretary for Import Administration.

[FR Doc. 03-190 Filed 1-3-03; 8:45 am]

BILLING CODE 3510-DS-P